DEPARTMENT OF THE INTERIOR

Geological Survey

[GX13EF00CDACQ00]

Notice of an Extension of an Information Collection (1028-0092)

AGENCY: U.S. Geological Survey, Interior.

ACTION: Notice of an extension of an information collection (1028-0092).

SUMMARY: We (the U.S. Geological Survey) will ask the Office of Management and Budget (OMB) to approve the information collection (IC) described below. To comply with the Paperwork Reduction Act of 1995 (PRA) and as part of our continuing efforts to reduce paperwork and respondent burden, we invite the general public and other Federal agencies to take this opportunity to comment on this IC. This collection is scheduled to expire on July 31, 2013.

DATES: You must submit comments on or before June 28, 2013.

ADDRESSES: You may submit comments on this information collection to the Information Collection Clearance Officer, U.S. Geological Survey, 12201 Sunrise Valley Drive MS 807, Reston, VA 20192 (mail); (703) 648-7195 (fax); or dgovoni@usgs.gov (email). Please Reference Information 1028-0092 in the subject line.

FOR FURTHER INFORMATION CONTACT: To request additional information please contact Teresa Dean at (703) 648-4825 or email at tdean@usgs.gov.

SUPPLEMENTARY INFORMATION:

I. Abstract

The NGP of the USGS provides funding for the collection of geospatial data to advance the development of The National Map and other national geospatial databases. In FY 2010, projects for the collection of orthoimagery and elevation data were funded through the American Recovery and Reinvestment Act. Subject to future funding availability, opportunities for the collection or revision of data including elevation, orthoimagery, hydrography and other layers in the national databases may be possible. We will accept applications from State, local or tribal governments and academic institutions to supplement ongoing data collection activities to respond to an increasing demand for more accurate and current geospatial data. To submit a proposal a completed project narrative and application must be submitted via Grants.gov. Grant recipients must complete a final technical report at the end of the project period. All application instructions and forms are available on the Internet through Grants.gov (http://www.grants.gov). Hard/paper submissions and electronic copies submitted via email will not be accepted under any circumstances. All reports will be accepted electronically via email.

II. Data

OMB Control Number: 1028-0092.

Title: The National Map: Topographic Data Grants Program.

Type of Request: Extension of currently approved collection.

Respondent Obligation: Required to receive benefits.

Frequency of Collection: Annually.

Description of Respondents: State, Local and Tribal Governments, private and non-profit firms, and academic institutions.

Estimated Number of Annual Responses: 40 applications and 20 final reports.

Estimated Annual Reporting and Recordkeeping “Hour” Burden: 2,680 hours. We expect to receive approximately 40 applications. It will take each applicant approximately 60 hours to complete the narrative and present supporting documents. This includes the time for project conception and development, proposal writing, reviewing, and submitting the proposal application through Grants.gov (totaling 2,400 burden hours). We anticipate awarding 20 grants per year. The award recipients must submit quarterly and final reports during the project. Within 7 days of the beginning of each quarter, a report must be submitted summarizing the previous quarter's progress. The quarterly report will take at least 1 hour to prepare (totaling 80 burden hours). A final report must be submitted within 90 calendar days of the end of the project period. We estimate that approximately 10 hours will be used to complete the final report (totaling 200 hours).

Estimated Reporting and Recordkeeping “Non-Hour Cost” Burden: There are no “non-hour cost” burdens associated with this collection of information.

III. Request for Comments

Public Disclosure Statement: The PRA (44 U.S.C. 3501, et seq.) provides that an agency may not conduct or sponsor and you are not required to respond to a collection of information unless it displays a currently valid OMB control number.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: April 22, 2013.
Julia Fields,
Deputy Director, National Geospatial Program.

[FR Doc. 2013-09996 Filed 4-26-13; 8:45 am]

BILLING CODE 4311-AM-P